DEPARTMENT OF EDUCATION

Notice Inviting Publishers To Submit Tests for a Determination of Suitability for Use in the National Reporting System for Adult Education

AGENCY: Office of Career, Technical, and Adult Education, Department of Education.

ACTION: Notice.

SUMMARY: The Secretary of Education invites publishers to submit tests for review and approval for use in the National Reporting System for Adult Education (NRS) and announces the date by which publishers must submit these tests. This notice relates to the approved information collection under OMB control number 1830-0567.

DATES: Deadline for transmittal of applications: October 1, 2020.

ADDRESSES: Submit your application by email to NRS@air.org.

FOR FURTHER INFORMATION CONTACT: John LeMaster, U.S. Department of Education, 400 Maryland Avenue SW, Room 11152, Potomac Center Plaza, Washington, DC 20202-7240. Telephone: (202) 245-6218. Email: John.LeMaster@ed.gov.

If you use a telecommunications device for the deaf (TDD) or a text telephone (TTY), call the Federal Relay Service (FRS), toll free, at 1-800-877-8339.

SUPPLEMENTARY INFORMATION: The Department's regulations for Measuring Educational Gain in the National Reporting System for Adult Education, 34 CFR part 462 (NRS regulations), include the procedures for determining the suitability of tests for use in the NRS.

There is a review process that will begin on October 1, 2020. Only tests submitted by the due date will be reviewed in that review cycle. If a publisher submits a test after October 1, 2020, the test will not be reviewed until the review cycle that begins on October 1, 2021.

Criteria the Secretary Uses: In order for the Secretary to consider a test suitable for use in the NRS, the test must meet the criteria and requirements established in 34 CFR 462.13.

Submission Requirements:

(a) In preparing your application, you must comply with the requirements in 34 CFR 462.11.

(b) In accordance with 34 CFR 462.10, the deadline for transmittal of applications in this fiscal year is October 1, 2020.

(c) You must retain a copy of your sent email message and the email attachments as proof that you submitted your application by 11:59 p.m. local time on October 1, 2020.

(d) We do not consider applications submitted after the application deadline date to be timely for the October 1, 2020, review cycle. If an application is submitted after the October 1, 2020, deadline date, the application will be considered timely for the October 1, 2021, deadline date.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

(Authority: 29 U.S.C. 3292.)

Scott Stump,
Assistant Secretary for Career, Technical, and Adult Education.

[FR Doc. 2020-18564 Filed 8-24-20; 8:45 am]

BILLING CODE 4000-01-P